ELECTION ASSISTANCE COMMISSION

Sunshine Act Notice

AGENCY: United States Election Assistance Commission.

ACTION: Notice of public meeting.

DATE AND TIME: Thursday, October 4, 2007, 10 a.m.-1 p.m.

PLACE: U.S. Election Assistance Commission, 1225 New York Ave., NW., Suite 150, Washington, DC 20005 (Metro Stop: Metro Center).

AGENDA: Commissioners will receive the following presentations: Perspectives from state officials on how EAC can use its regulatory authority under the National Voter Registration Act (NVRA) to address changes in voter registration procedures; Commissioners will receive updates on the next iteration of the Voluntary Voting System Guidelines (VVSG) and a report on a recommendation from the National Voluntary Laboratory Accreditation Program (NVLAP); Commissioners will discuss other administrative matters.

This meeting will be open to the public.

PERSON TO CONTACT FOR INFORMATION: Bryan Whitener, Telephone: (202) 566-3100.

Thomas R. Wilkey,
Executive Director, U.S. Election Assistance Commission.

[FR Doc. 07-4701 Filed 9-18-07; 2:46 pm]

BILLING CODE 6820-KF-M